DEPARTMENT OF JUSTICE

Notice of Lodging of Eighth Consent Decree in United States v. Nalco Chemical Company, et al., Under the Comprehensive Environmental Response, Compensation, and Liability Act

Notice is hereby given that a proposed eighth Consent Decree in United States v. Nalco Chemical Company, et al., Case No. 91-C-4482 (N.D. Ill.) entered into by the United States on behalf of U.S. EPA and Commonwealth Edison Company was lodged on August 3, 1999 with the United States District Court for the Northern District of Illinois. The proposed Consent Decree resolves certain claims of the United States against the settling party under the Comprehensive Environmental Response Compensation and Liability Act, 42 U.S.C. 9601 et seq. relating to the Byron Salvage Superfund Site in Ogle County, Illinois. Under the eighth Consent Decree, Commonwealth Edison Company will pay $860,900 to the Hazardous Substances Superfund in reimbursement of past response costs, will perform certain soil remediation work, and may make an additional payment as provided in the Consent Decree.

The Department of Justice will receive comments relating to the proposed Consent Decree for 30 days following the publication of this Notice. Comments should be addressed to the Assistant Attorney General of the Environment and Natural Resources Division, Department of Justice, P.O. Box 7611, Ben Franklin Station, Washington, DC 20044, and should refer to United States v. Nalco Chemical Company, et al., D.J. Ref. No. 90-11-3-687. The proposed Consent Decree may be examined at the Office of the United States Attorney for the Northern District of Illinois, 219 S. Dearborn St., Chicago, Illinois 60604; and the Region V Office of the United States Environmental Protection Agency, 77 West Jackson Street, Chicago, Illinois 60604. A copy of the Consent Decree may also be obtained by request addressed to the Department of Justice Consent Decree Library, P.O. Box 7611, Ben Franklin Station, Washington, DC 20044. In requesting a copy of the Consent Decree, please enclose a check in the amount of $37.00 (25 cents per page for reproduction costs), payable to the Consent Decree Library.

Joel M. Gross,
Section Chief, Environmental Enforcement Section, Environment and Natural Resources Division.

[FR Doc. 00-18215 Filed 7-18-00; 8:45 am]

BILLING CODE 4410-15-M